DEPARTMENT OF HEALTH AND HUMAN SERVICES

Health Resources and Services Administration

Advisory Committee; Notice of Meeting

In accordance with section 10(a)(2) of the Federal Advisory Committee Act, (Public Law 92-463), announcement is made of the following National Advisory body scheduled to meet during the month of October 2000.

Name: Advisory Committee on Interdisciplinary, Community-Based Linkages.

Date and Time: October 10, 2000, 10 a.m.-5 p.m.; October 11, 2000, 10 a.m.-4 p.m.

Place: The Doubletree Hotel Park Terrace on Embassy Row, 1515 Rhode Island Avenue, NW., Washington, DC 20005.

The meeting is open to the public.

The full Committee will meet beginning October 10 and adjourn on October 11, during the hours cited above. Agenda items will include, but not be limited to: Review and approval of the August 13-14, 2000, Committee meeting minutes; plenary discussion of programmatic challenges facing the seven federal programs to be reviewed by the Committee: Geriatrics Education and Training Programs, Allied Health Programs, the Quentin N. Burdick program for Rural Interdisciplinary Training, Area Health Education Centers, Health Education and Training Centers, Chiropractic, and Podiatric Medicine; introduction of Division of Interdisciplinary and Community-Based Program (DICP) staff supporting Committee activities and federal program management of the programs listed above; Committee team break-out meetings followed by plenary session outcomes reporting; discussion and planning of the Committee report due to the Secretary of Health and Human Services, the Committee on Health, Education, Labor and Pensions (formerly the Committee on Labor and Human Resources) of the Senate, and the Committee on Commerce of the House of Representatives by November 2001; and scheduling of the next Committee meeting, which shall include but not be limited to: the meeting date and location and discussion of topics to be addressed during the meeting.

Public comment will be permitted before lunch and at the end of the Committee meeting on October 11, 2000. Oral presentations will be limited to five minutes per public speaker. Persons interested in providing an oral presentation should submit a written request, with a copy of their presentation to: Mr. Leo Wermers, Principal Staff Liaison, Division of Interdisciplinary, Community-Based Programs, Bureau of Health Professions, Health Resources and Services Administration, Room 9-105, 5600 Fishers Lane, Rockville, Maryland 20857, Telephone (301) 443-1648 or (301) 443-7121.

Requests should contain the name, address, telephone number, and any business or professional affiliation of the person desiring to make an oral presentation. Groups having similar interests are requested to combine their comments and present them through a single representative. The Division of Interdisciplinary, Community-Based Programs will notify each presenter by mail or telephone of their assigned presentation time.

Persons who do not file an advance request for a presentation, but wish to make an oral statement may register to do so at the Doubletree Hotel Park Terrace on October 10, 2000. These persons will be allocated time as the Committee meeting agenda permits.

Anyone requiring information regarding the Committee should contact Mr. Wermers, Division of Interdisciplinary, Community-Based Programs, Bureau of Health Professions, Health Resources and Services Administration, Room 9-105, 5600 Fishers Lane, Rockville, Maryland 20857, Telephone (301) 443-1648 or (301) 443-7121.

Proposed agenda items are subject to change as priorities dictate.

Dated: September 8, 2000.
Jane M. Harrison,
Director, Division of Policy Review and Coordination.

[FR Doc. 00-23818 Filed 9-15-00; 8:45 am]

BILLING CODE 4160-15-P